SURFACE TRANSPORTATION BOARD

[Docket No. FD 36539]

WRL LLC dba Rainier Rail—Lease and Operation Exemption—City of Tacoma Department of Public Works dba Tacoma Rail Mountain Division

WRL LLC dba Rainier Rail (WRL), a Class III railroad, has filed a verified notice of exemption pursuant to 49 CFR 1150.41 to lease from the City of Tacoma, Department of Public Works dba Tacoma Rail Mountain Division (Tacoma Rail) and operate an approximately 0.8-mile rail line between Tacoma Rail milepost 28.6 and milepost 27.8C near McKenna, in Pierce County, Wash. (the Line).

WRL states that the Line was previously operated by Tacoma Rail. WRL states that it has reached an agreement with Tacoma Rail that will allow WRL to lease and operate the Line upon the exemption's effective date.

According to WRL, the proposed transaction does not involve any provision or agreement that would limit future interchange with a third-party connecting carrier. Further, WRL certifies that its projected annual revenue will not exceed $5 million and will not result in the creation of a Class I or II rail carrier.

The earliest this transaction may be consummated is September 25, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 17, 2021 (at least seven days before the exemption becomes effective).

All pleadings, referring to Docket No. FD 36539, should be filed with the Surface Transportation Board via e-filing on the Board's website. In addition, a copy of each pleading must be served on WRL's representative: James H.M. Savage, 22 Rockingham Court, Germantown, MD 20874.

According to WRL, this action is categorically excluded from environmental review under 49 CFR 1105.6(c) and from historic preservation reporting requirements under 49 CFR 1105.8(b).

Board decisions and notices are available at www.stb.gov.

Decided: September 7, 2021.
By the Board, Scott M. Zimmerman, Acting Director, Office of Proceedings.
Kenyatta Clay,
Clearance Clerk.

[FR Doc. 2021-19517 Filed 9-9-21; 8:45 am]

BILLING CODE 4915-01-P